FEDERAL COMMUNICATIONS COMMISSION

Open Commission Meeting, Wednesday, September 26, 2018

September 19, 2018.

The Federal Communications Commission will hold an Open Meeting on the subjects listed below on Wednesday, September 26, 2018 which is scheduled to commence at 10:30 a.m. in Room TW-C305, at 445 12th Street SW, Washington, DC

Item No. | Bureau | Subject
1 | PUBLIC SAFETY & HOMELAND SECURITY | Title: Implementing Kari's Law and Section 506 of Ray BAUM'S Act (PS Docket No. 18-261); Inquiry Concerning 911 Access, Routing, and Location in Enterprise Communications Systems (PS Docket No. 17-239).
|  | Summary: The Commission will consider a Notice of Proposed Rulemaking addressing calls to 911 made from multi-line telephone systems, pursuant to Kari's Law, the conveyance of dispatchable location with 911 calls, as directed by RAY BAUM'S Act, and the consolidation of the Commission's 911 rules.
2 | RURAL BROADBAND AUCTIONS TASK FORCE | Title: Presentation on Results of the Connect America Fund Phase II Auction. Summary: The Commission will hear a presentation on the recent results of the Connect America Fund Phase II auction (Auction 903).
3 | WIRELESS TELE-COMMUNICATIONS | Title: Accelerating Wireless Broadband Deployment by Removing Barriers to Infrastructure Investment (WT Docket No. 17-79); Accelerating Wireline Broadband Deployment by Removing Barriers to Infrastructure Investment (WC Docket No. 17-84).
|  | Summary: The Commission will consider a Declaratory Ruling and Report and Order that will clarify the scope and meaning of Sections 253 and 332(c)(7) of the Communications Act, establish shot clocks for state and local approvals for the deployment of small wireless facilities, and provide guidance on streamlining state and local requirements on wireless infrastructure deployment.
4 | ENFORCEMENT | Title: Enforcement Bureau Action. Summary: The Commission will consider an enforcement action.
5 | ENFORCEMENT | Title: Enforcement Bureau Action. Summary: The Commission will consider an enforcement action.
6 | MEDIA | Title: Implementation of Section 621(a)(1) of the Cable Communications Policy Act of 1984 as Amended by the Cable Television Consumer Protection and Competition Act of 1992 (MB Docket No. 05-311).
|  | Summary: The Commission will consider a Second Further Notice of Proposed Rulemaking addressing two issues raised by a remand from the U.S. Court of Appeals for the Sixth Circuit concerning how local franchising authorities may regulate incumbent cable operators and cable television services.
7 | MEDIA | Title: FCC Form 325 Collection (MB Docket No. 17-290); Modernization of Media Regulation Initiative (MB Docket No. 17-105).
|  | Summary: The Commission will consider a Report and Order that eliminates the Form 325, Annual Report of Cable Television Systems, filing requirement.
8 | WIRELINE COMPETITION | Title: Toll Free Assignment Modernization (WC Docket No. 17-192); Toll Free Service Access Codes (CC Docket No. 95-155).
|  | Summary: The Commission will consider a Report and Order that will amend the Commission's rules to allow for use of auctions to assign certain toll free numbers and takes other actions to modernize the administration and assignment of toll free numbers.
9 | INTERNATIONAL | Title: Amendment of Parts 2 and 25 of the Commission's Rules to Facilitate the Use of Earth Stations in Motion Communicating with Geostationary Orbit Space Stations in Frequency Bands Allocated to the Fixed Satellite Services (IB Docket No. 17-95).
|  | Summary: The Commission will consider action to facilitate the deployment of and harmonize the rules concerning three types of Fixed-Satellite Service earth stations authorized to transmit while in motion: Earth Stations on Vessels, Vehicle-Mounted Earth Stations, and Earth Stations Aboard Aircraft.

* * * * *

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the internet from the FCC Live web page at www.fcc.gov/live.

For a fee this meeting can be viewed live over George Mason University's Capitol Connection. The Capitol Connection also will carry the meeting live via the internet. To purchase these services, call (703) 993-3100 or go to www.capitolconnection.gmu.edu.

Federal Communications Commission.
Katura Jackson,
Federal Register Liaison Officer, Office of the Secretary.

[FR Doc. 2018-21478 Filed 10-2-18; 8:45 am]

BILLING CODE 6712-01-P